ENVIRONMENTAL PROTECTION AGENCY

[FRL-9959-65-Region 2]

Proposed CERCLA Section 122(h) Cost Recovery Settlement for the Metro Leather Superfund Site, City of Gloversville, Fulton County, New York; Request for Public Comment

AGENCY: Environmental Protection Agency (EPA).

ACTION: Notice.

DATES: Comments must be submitted on or before April 24, 2017.

ADDRESSES: The proposed settlement is available for public inspection at EPA Region 2 offices at 290 Broadway, New York, New York 10007-1866. Comments should reference the Metro Leather Superfund Site, City of Gloversville, Fulton County, New York, Index No. II-CERCLA-02-2016-2019. To request a copy of the proposed settlement agreement, please contact the EPA employee identified below.

FOR FURTHER INFORMATION CONTACT: Gregory Wall, Attorney-Advisor, Regional Support Division, Office of Site Remediation Enforcement, U.S. Environmental Protection Agency, 1200 Pennsylvania Avenue NW., Mail Code 2272A, Washington, DC 20460. Email: wall.gregory@epa.gov. Telephone: 202-564-4498.

SUPPLEMENTARY INFORMATION: In accordance with Section 122(i) of the Comprehensive Environmental Response, Compensation, and Liability Act of 1980, as amended (“CERCLA”), 42 U.S.C. 9622(i), notice is hereby given by the U.S. Environmental Protection Agency (“EPA”), Region 2, of a proposed cost recovery settlement agreement pursuant to Section 122(h) of CERCLA, 42 U.S.C. 9622(h), with Genesco Inc. (“Genesco”) for the Metro Leather Superfund Site (“Site”), located in the City of Gloversville, Fulton County, New York. Genesco agrees to pay EPA $1.5 million in reimbursement of EPA's past response costs paid at or in connection with the Site.

The settlement includes a covenant by EPA not to sue or to take administrative action against Genesco pursuant to Section 107(a) of CERCLA, 42 U.S.C. 9607(a), with regard to the response costs related to the work at the Site enumerated in the settlement agreement. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: February 8, 2017.
John Prince,
Acting Director, Emergency and Remedial Response Division, U.S. Environmental Protection Agency, Region 2.

[FR Doc. 2017-05905 Filed 3-23-17; 8:45 am]

BILLING CODE 6560-50-P